DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

TIME AND DATE: February 19, 2026, 10:00 a.m.

PLACE: Room 2C, 888 First Street NE, Washington, DC 20426. Open to the public.

STATUS: Open.

MATTERS TO BE CONSIDERED: Agenda.

* Note—Items listed on the agenda may be deleted without further notice.

CONTACT PERSON FOR MORE INFORMATION: Debbie-Anne A. Reese, Secretary, Telephone (202) 502-8400. For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

133rd—MEETING
[Open; February 19, 2026; 10:00 a.m.]
Item No. | Docket No. | Company
Administrative
A-1 | AD26-1-000 | Agency Administrative Matters.
A-2 | AD26-2-000 | Customer Matters, Reliability, Security and Market Operations.
Electric
E-1 | EC25-43-001 | Constellation Energy Corporation, Constellation Energy Generation, LLC and Calpine Corporation.
E-2 | EL10-56-000 | Western Electricity Coordinating Council.
E-3 | EL26-25-000 | Stay Ready Solar 1 Inc., Stay Ready Solar 2 Inc. and Stay Ready Solar 3 Inc. v. Entergy New Orleans, Inc.
E-4 | QF19-881-005 | Branch Street Solar Partners, LLC.
| QF13-22-005 | Picture Rocks Solar, LLC.
| QF13-653-005 | Sol Orchard San Diego 21, LLC.
| QF13-654-005 | Sol Orchard San Diego 22, LLC.
| QF13-655-005 | Sol Orchard San Diego 23, LLC.
| QF13-656-005 | Sol Orchard San Diego 20, LLC.
| QF15-719-006 | Klamath Falls Solar 2, LLC.
E-5 | ER26-698-000, TS26-2-000 | Great Bend Solar, LLC.
E-6 | RD26-1-000, RD26-2-000, RD26-3-000, (not consolidated) | North American Electric Reliability Corporation.
E-7 | ER21-64-002 | Macquarie Energy LLC.
E-8 | ER21-2649-002 | Macquarie Energy LLC.
E-9 | ER21-2459-002 | Tenaska Power Services Co.
E-10 | ER21-2382-002 | Shell Energy North America (US), L.P.
Gas
G-1 | PL23-1-000 | Oil Pipeline Affiliate Committed Service.
G-2 | RP25-1189-000 | Baltimore Gas and Electric Company v. Transcontinental Gas Pipe Line Company, LLC.
G-3 | RP25-966-000 | Jay-Bee Production Company v. Texas Gas Transmission, LLC.
Hydro
H-1 | RM26-7-000 | Categorical Exclusion under the National Environmental Policy Act for Certain Terminations or Revocations of Water Power Licenses or Exemptions.
H-2 | CX26-1-000 | Order Adopting Categorical Exclusions from Tennessee Valley Authority under the National Environmental Policy Act.
H-3 | P-6055-008 | Jeffersonville Hydroelectric Co.
H-4 | P-5698-025 | Triton Power Company.
Certificates
C-1 | CP25-495-000 | National Fuel Gas Supply Corporation.
C-2 | RM25-9-001 | Removal of Regulations Limiting Authorizations to Proceed with Construction Activities Pending Rehearing.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: February 12, 2026.
Carlos D. Clay,
Deputy Secretary.

[FR Doc. 2026-03171 Filed 2-13-26; 11:15 am]

BILLING CODE 6717-01-P